ENVIRONMENTAL PROTECTION AGENCY

40 CFR Parts 52 and 70

[EPA-R07-OAR-2007-0829; FRL-8526-1]

Approval and Promulgation of Implementation Plans and Operating Permits Program; State of Kansas

AGENCY: Environmental Protection Agency (EPA).

ACTION: Proposed rule.

SUMMARY: EPA is proposing to approve a revision to the Kansas State Implementation Plan (SIP) for the purpose of revoking the Sulfur Compound Emissions rule and for the purpose of approving revisions to a Class I major source operating permit annual emissions inventory rule and several Class II minor source operating permits rules. EPA is also proposing to approve additional amendments adopted by KDHE on February 20, 1998 which pertain to the Class II operating permit rules. The rules were primarily revised to align the annual emission inventory reporting date deadline with the June 1 payment of applicable emissions fees. EPA's proposed approval of these amendments would ensure consistency between the state and the Federally-approved rules.

DATES: Comments on this proposed action must be received in writing by March 10, 2008.

ADDRESSES: Submit your comments, identified by Docket ID No. EPA-R07-OAR-2007-0829 by one of the following methods:

1. http://www.regulations.gov: Follow the on-line instructions for submitting comments.

2. E-mail: grier.gina@epa.gov.

3. Mail: Gina Grier, Environmental Protection Agency, Air Planning and Development Branch, 901 North 5th Street, Kansas City, Kansas 66101.

4. Hand Delivery or Courier. Deliver your comments to: Gina Grier, Environmental Protection Agency, Air Planning and Development Branch, 901 North 5th Street, Kansas City, Kansas 66101. Such deliveries are only accepted during the Regional Office's normal hours of operation. The Regional Office's official hours of business are Monday through Friday, 8 to 4:30, excluding legal holidays.

Please see the direct final rule which is located in the Rules section of this Federal Register for detailed instructions on how to submit comments.

FOR FURTHER INFORMATION CONTACT: Gina Grier at (913) 551-7078, or by e-mail at grier.gina@epa.gov.

SUPPLEMENTARY INFORMATION: In the final rules section of the Federal Register, EPA is approving the state's SIP revision and Title V revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: January 28, 2008.
John B. Askew,
Regional Administrator, Region 7.

[FR Doc. E8-2188 Filed 2-7-08; 8:45 am]

BILLING CODE 6560-50-P